DEPARTMENT OF COMMERCE

National Institute of Standards and Technology

Visiting Committee on Advanced Technology

AGENCY: National Institute of Standards and Technology, Department of Commerce.

ACTION: Notice of partially closed meeting.

SUMMARY: Pursuant to the Federal Advisory Committee Act, 5 U.S.C. app. 2, notice is hereby given that the Visiting Committee on Advanced Technology (VCAT), National Institute of Standards and Technology (NIST), will meet Tuesday, December 11, 2007, from 8:30 a.m. to 2:30 p.m. and Wednesday, December 12, 2007, from 8:30 a.m. to 12 p.m. The Visiting Committee on Advanced Technology is composed of fifteen members appointed by the Director of NIST who are eminent in such fields as business, research, new product development, engineering, labor, education, management consulting, environment, and international relations. The purpose of this meeting is to review and make recommendations regarding general policy for the Institute, its organization, its budget, and its programs within the framework of applicable national policies as set forth by the President and the Congress. The agenda will include an update on NIST and its R&D priorities, NIST's vision for 2017, and strategic plan; an overview presentation on the U.S. standards and conformity assessment system; break-out sessions of the Information Technology and Nanotechnology subcommittees to discuss NIST's programs and plans and how they fit into the national agenda with input back to the full committee. Discussions on NIST budget and planning information scheduled to begin at 8 a.m. and to end at 8:30 a.m. on December 11 will be closed. The agenda may change to accommodate Committee business. The final agenda will be posted on the NIST Web site at http://www.nist.gov/director/vcat/agenda.htm.

Anyone wishing to attend this meeting should submit name, e-mail address and phone number to Denise Herbert (denise.herbert@nist.gov or 301-975-5607) no later than December 7, 2007.

DATES: The meeting will convene on December 11, 2007 at 8:30 a.m. and will adjourn on December 12, 2007 at 12 p.m.

ADDRESSES: The meeting will be held at the Doubletree Guest Suites, Historic Charleston, 181 Church Street, Charleston, South Carolina, 29401.

FOR FURTHER INFORMATION CONTACT: Denise Herbert, Visiting Committee on Advanced Technology, National Institute of Standards and Technology, Gaithersburg, Maryland 20899-1000, telephone number (301) 975-5607.

SUPPLEMENTARY INFORMATION: The Assistant Secretary for Administration, with the concurrence of the General Counsel, formally determined on November 19, 2007, that portions of the meeting of the Visiting Committee on Advanced Technology which deal with discussion of sensitive budget and planning information that would cause harm to third parties if publicly shared be closed in accordance with section 10 (d) of the Federal Advisory Committee Act, 5 U.S. C. app. 2.

Dated: November 20, 2007.
Richard F. Kayser,
Acting Deputy Director.

[FR Doc. E7-23032 Filed 11-26-07; 8:45 am]

BILLING CODE 3510-13-P